Title 3—

The President

Proclamation 8440 of October 19, 2009

National Character Counts Week, 2009

By the President of the United States of America

A Proclamation

In communities across America, people are working together to see our country through challenging times—educating our children, caring for the sick, and extending a hand to those in need. They remind us that the true character of our Nation is revealed by the good we do when the moment is challenging. During National Character Counts Week, we pay tribute to the men and women who are selflessly serving others, inspiring and encouraging younger generations to develop the compassion, dedication, and strength of character that is the mark of our great Nation.

Instilling sound character and a sense of responsibility in our children is critical to our country’s future. When we teach young people about time-honored values like integrity and humility, we promote good citizenship and civic virtues that will guide them through life and sustain our democracy. Parents play an integral role in cultivating the character of their children, and they must help them understand the consequences of poor choices and the rewards of healthy, sound decisions. Teachers, clergy, local leaders, and countless other volunteers can also be role models and mentors for America’s youth as they devote their time and energy to serving their communities. The brave members of our Armed Forces who sacrifice every day for our Nation are tremendous examples of strong character for us all to follow.

Throughout our history, the pursuit of our highest ideals—hard work, curiosity, tolerance, and patriotism—has been the quiet force behind our progress. As Americans, we must hold true to these fundamental values that have propelled us forward time and again to adapt and lead in an ever-changing world. National Character Counts week is an opportunity to recognize the depth of America’s character and to honor those who pass on our values to future generations.

NOW, THEREFORE, I, BARACK OBAMA, President of the United States of America, by virtue of the authority vested in me by the Constitution and the laws of the United States, do hereby proclaim October 18 through October 24, 2009, as National Character Counts Week. I call upon public officials, educators, parents, students, and all Americans to observe this week with appropriate ceremonies, activities, and programs.

IN WITNESS WHEREOF, I have hereunto set my hand this nineteenth day of October, in the year of our Lord two thousand nine, and of the Independence of the United States of America the two hundred and thirty-fourth.

[FR Doc. E9-25764

Filed 10-22-09; 11:15 am]

Billing code 3195-W9-P